POSTAL REGULATORY COMMISSION

Sunshine Act Meetings

Name of Agency: Postal Regulatory Commission.

Time and Date: 10 a.m., Tuesday, December 11, 2007.

Place: Commission conference room, 901 New York Avenue, NW., Suite 200, Washington, DC 20268-0001.

Status: Open.

Matters To Be Considered: Agency organization.

Contact Person for More Information: Stephen L. Sharfman, General Counsel, 202-789-6820 or stephen.sharfman@prc.gov.

Dated: Monday, December 4, 2007.
Steven W. Williams,
Secretary.

[FR Doc. 07-5976 Filed 12-4-07; 2:25 pm]

BILLING CODE 7710-FW-M